DEPARTMENT OF THE INTERIOR

Bureau of Indian Affairs

Renewal of Agency Information Collection for No Child Left Behind Act Implementation; Request for Comments

AGENCY: Bureau of Indian Affairs, Interior.

ACTION: Notice of submission to the Office of Management and Budget.

SUMMARY: In compliance with the Paperwork Reduction Act of 1995, the Bureau of Indian Education (BIE or Bureau) is submitting to the Office of Management and Budget (OMB) for renewal the collection of information for implementation of certain regulations implementing the No Child Left Behind Act. The information collection is currently authorized by OMB Control Number 1076-0163, which expires December 31, 2010.

DATES: Interested persons are invited to submit comments on or before January 27, 2011.

ADDRESSES: You may submit comments on the information collection to the Desk Officer for the Department of the Interior at the Office of Management and Budget, by facsimile to (202) 395-5806 or you may send an e-mail to: OIRA_DOCKET@ omb.eop.gov. Please send a copy of your comments to Brandi Sweet, Program Analyst, Bureau of Indian Education, Mail Stop 3623-MIB, 1849 C Street, NW., Washington, DC 20240; or by e-mail to Brandi.Sweet@bie.edu.

FOR FURTHER INFORMATION CONTACT: Brandi Sweet (202) 208-5504.

SUPPLEMENTARY INFORMATION:

I. Abstract

The BIE is seeking renewal of the approval for the information collection conducted under 25 CFR parts 30, 37, 39, 42, 44, and 47 under OMB Control Number 1076-0163. This information collection is necessary to implement Public Law 107-110, No Child Left Behind Act of 2001 (NCLB). The NCLB requires all schools, including Bureau-funded schools, to ensure that all children have a fair, equal, and significant opportunity to obtain a high-quality education and reach, at a minimum, proficiency on challenging academic achievement standards and assessments. The BIE has promulgated several regulations implementing the NCLB Act. This OMB Control Number addresses the information collected under the following regulations.

• 25 CFR part 30—Adequate Yearly Progress (AYP). Tribes/school boards may request an alternative to the established AYP definition or standards. Tribes/school boards may provide evidence that BIE made an error in identifying the school for improvement. Achievement, attendance and graduation rates are collected from schools to facilitate yearly calculation of AYP.

• 25 CFR part 37—Geographic Boundaries. This part establishes procedures for confirming, establishing, or revising attendance areas for each Bureau-funded school. Tribes and school boards must submit certain information to BIE to propose a change in geographic boundaries.

• 25 CFR part 39—Indian School Equalization Program (ISEP). This part provides for the uniform direct funding of Bureau-operated and tribally operated day schools, boarding schools, and dormitories. Auditors of schools, to ensure accountability in student counts and student transportation, must certify that they meet certain qualifications and have conducted a conflict of interest check. Schools must submit information to BIE to apply for funds in the event of an emergency or unforeseen contingency.

• 25 CFR part 42—Student Rights. The purpose of this part is to govern student rights and due process procedures in disciplinary proceedings in all Bureau-funded schools. This part requires the school to provide notice of disciplinary charges, provide a copy of the hearing of record, and provide a student handbook.

• 25 CFR part 44—Grants under the Tribally Controlled Schools Act. The purpose of this part is to establish who is eligible for a grant and requires tribes to submit information to BIE to retrocede a program to the Secretary.

• 25 CFR part 47—Uniform Direct Funding and Support for Bureau-operated Schools. This part contains the requirements for developing local educational financial plans in order to receive direct funding from the Bureau. This part requires school supervisors to submit quarterly reports to school boards; submit a notice of appeal to the BIE for a decision where agencies disagree over expenditures; make certain certifications in financial plans; and send the plan and documentation to the BIE or submit a notice of appeal.

II. Request for Comments

The BIE requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0163.

Title: No Child Left Behind, 25 CFR 30, 37, 39, 42, 44, and 47.

Brief Description of Collection: Pursuant to NCLB implementing regulations, Bureau-funded schools must provide certain information if they wish to use alternative AYP standards, change their geographic boundaries, obtain contingency funds, retrocede a program, or obtain direct funding from the Bureau through submission of a local educational financial plan. For these items, a response is required to obtain a benefit (continued supplementary program funding). In addition, all Bureau-funded schools must provide students with written notice of disciplinary charges, a copy of the hearing record, and student handbook. These items are mandatory information collections.

Type of Review: Extension without change of a currently approved collection.

Respondents: Bureau-funded schools.

Number of Respondents: 183.

Total Number of Responses: 14,554.

Frequency of Response: Quarterly, annually, or on occasion, depending on the item.

Estimated Time per Response: Ranges from 1 hour to 480 hours.

Estimated Total Annual Burden: 27,355 hours.

Dated: December 14, 2010.
Alvin Foster,
Acting Chief Information Officer—Indian Affairs.

[FR Doc. 2010-32695 Filed 12-27-10; 8:45 am]

BILLING CODE 4310-4J-P